DEPARTMENT OF COMMERCE

National Oceanic and Atmospheric Administration

[RTID 0648-XA904]

North Pacific Fishery Management Council; Public Meeting

AGENCY: National Marine Fisheries Service (NMFS), National Oceanic and Atmospheric Administration (NOAA), Commerce.

ACTION: Notice of web conference.

SUMMARY: The Center of Independent Experts (CIE) will be hold a web conference in March.

DATES: The meeting will be held on Monday, March 22, 2021 through Thursday, March 25, 2021, from 9 a.m. to 5 p.m., Pacific Time.

ADDRESSES: The meeting will be a web conference. Join online through the link at https://archive.fisheries.noaa.gov/afsc/refm/stocks/plan_team/2021_crab_cie/.

Council address: Alaska Fishery Science Center, 7600 Sand Point Way, Seattle, WA 98115; telephone: (206) 526-4000.

FOR FURTHER INFORMATION CONTACT: Cody Szuwalski, Alaska Fishery Science Center staff; phone: (206) 526-4536; email: cody.szuwalski@noaa.gov.

SUPPLEMENTARY INFORMATION:

Agenda

Monday, March 22, 2021 Through Thursday, March 25, 2021

The CIE is to review the Eastern Bering Sea (EBS) snow crab assessment model and Bristol Bay red king crab stock assessment model.

The agenda is subject to change, and the latest version will be posted at https://archive.fisheries.noaa.gov/afsc/refm/stocks/plan_team/2021_crab_cie/ prior to the meeting, along with meeting materials.

Authority: 16 U.S.C. 1801 et seq.

Dated: February 25, 2021.
Tracey L. Thompson,
Acting Deputy Director, Office of Sustainable Fisheries, National Marine Fisheries Service.

[FR Doc. 2021-04268 Filed 3-1-21; 8:45 am]

BILLING CODE 3510-22-P